ENVIRONMENTAL PROTECTION AGENCY

40 CFR Part 180

[EPA-HQ-OPP-2020-0053; FRL-10014-74]

Receipt of a Pesticide Petition Filed for Residues of Pesticide Chemicals in or on Various Commodities (August 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before October 30, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov. The mailing address is: Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerance

1. PP 0E8825. (EPA-HQ-OPP-2020-0228). Interregional Research Project Number 4 (IR-4), Rutgers, The State University of New Jersey, 500 College Road East, Suite 201 W, Princeton, NJ 08540 requests to amend 40 CFR 180 by removing established tolerances for residues of Fluxapyroxad, (BAS 700 F); 3-(difluoromethyl)-1-methyl-N-(3′,4′,5′-trifluoro[1,1′-biphenyl]-2-yl)-1H-pyrazole-4-carboxamide, its metabolites, and degradates in or on the raw agricultural commodities: Fruit, pome, group 11 at 0.8 parts per million (ppm); vegetables, fruiting, group 8 at 0.7 ppm; and cotton, undelinted seed at 0.30 ppm. Contact: RD.

2. PP 0E8827. (EPA-HQ-OPP-2020-0245). Interregional Research Project Number 4 (IR-4), Rutgers, The State University of New Jersey, 500 College Road East, Suite 201 W, Princeton, NJ 08540 requests to amend 40 CFR 180 by removing established tolerances for residues of fluazinam, (3-chloro-N-3-chloro-2,6-dinitro-4-(trifluoromethyl)phenyl-5-(trifluoromethyl)-2-pyridinamine) including its metabolites and degradates, in or on the raw agricultural commodities: Vegetable, legume, edible-podded, subgroup 6A, except pea at 0.10 ppm; pea and bean, succulent shelled, subgroup 6B, except pea at 0.04 ppm; pea and bean, dried shelled, except soybean, subgroup 6C, except pea at 0.02 ppm; vegetable, brassica leafy, group 5, except cabbage at 0.01 ppm; turnip, greens at 0.01 ppm. Contact: RD.

3. PP 0E8833. (EPA-HQ-OPP-2020-0336). Interregional Research Project Number 4 (IR-4), Rutgers, The State University of New Jersey, 500 College Road East, Suite 201 W, Princeton, NJ 08540 requests to remove established tolerances with general registrations for residues of the insecticide, methoxyfenozide, including its metabolites and degradates in or on the following commodities: Brassica, head and stem, subgroup 5A at 7.0 ppm; brassica, leafy greens, subgroup 5B at 30 ppm; cotton, undelinted seed at 2.0 ppm; date at 8.0 ppm; leaf petioles subgroup 4B at 25 ppm; leafy greens subgroup 4A at 30 ppm; lychee at 2.0 ppm; longan at 2.0 ppm; spanish lime at 2.0 ppm; turnip, greens at 30 ppm; vegetable, legume, edible podded, subgroup 6A at 1.5 ppm; pea and bean, succulent shelled, subgroup 6B at 0.2 ppm; pea and bean, dried shelled, except soybean, subgroup 6C, except pea, blackeyed, seed and pea, southern, seed a 0.50 ppm; and also to remove Section 18 emergency exemptions (time-limited tolerances) for residues of the insecticide, methoxyfenozide, including its metabolites and degradates in or on the commodities: Rice, bran at 4.0 ppm; rice, grain at 0.50 ppm. Contact: RD.

B. New Tolerance Exemptions for Inerts (Except PIPS)

PP IN-11391. (EPA-HQ-OPP-2020-0451) Clorox Services Company (Representing Clorox Professional Products Company), P.O. Box 493, Pleasanton, CA 94566-0803, requests to establish an exemption from the requirement of a tolerance for residues of sodium lauroyl sarcosinate (CAS Reg. No. 137-16-6), when used as inert ingredients in pesticide formulations under 40 CFR 180.940(a) at an upper limit of 10,000 ppm. The petitioner believes no analytical method is needed because it is not required for an exemption from the requirement of a tolerance. Contact: RD.

C. New Tolerance Exemptions for Non-Inerts (Except Pips)

PP 0E8824. (EPA-HQ-OPP-2020-0176). Interregional Research Project Number 4 (IR-4), 500 College Road East, Suite 201 W, Princeton, NJ 08540 requests, pursuant to section 408(d) of the Federal Food, Drug, and Cosmetic Act (FFDCA), 21 U.S.C. 346a(d), to amend 40 CFR part 180 to establish an exemption from the requirement of a tolerance in or on honey and honeycomb for oxalic acid dihydrate. Oxalic acid dihydrate may be analyzed using an HPLC method with UV detection. Contact: RD.

D. New Tolerances for Non-Inerts

1. PP 0E8825. (EPA-HQ-OPP-2020-0228). Interregional Research Project Number 4 (IR-4), Rutgers, The State University of New Jersey, 500 College Road East, Suite 201 W, Princeton, NJ 08540 requesting, pursuant to section 408(d) of the Federal Food, Drug, and Cosmetic Act (FFDCA), 21 U.S.C. 346a(d), to amend 40 CFR part 180 by establishing a tolerance for residues of Fluxapyroxad, (BAS 700 F); 3-(difluoromethyl)-1-methyl-N-(3′,4′,5′-trifluoro[1,1′-biphenyl]-2-yl)-1H-pyrazole-4-carboxamide, its metabolites, and degradates in or on the raw agricultural commodities: Pomegranate at 0.2 ppm; vegetable, fruiting, group 8-10 at 0.7 ppm; fruit, pome, group 11-10 at 0.8 ppm; and cottonseed subgroup 20C at 0.3 ppm. Independently validated analytical methods have been submitted for analyzing residues of parent fluxapyroxad (BAS 700 F) plus metabolites M700F008, M700F048, and M700F002 with appropriate sensitivity in/on pomegranate. Contact: RD.

2. PP 0E8826. (EPA-HQ-OPP-2020-0227). Interregional Research Project Number 4 (IR-4), Rutgers, The State University of New Jersey, 500 College Road East, Suite 201 W, Princeton, NJ 08540 requests, pursuant to section 408(d) of the Federal Food, Drug, and Cosmetic Act (FFDCA), 21 U.S.C. 346a(d), to amend 40 CFR part 180 by establishing a tolerance for residues of the sum of pyraclostrobin, (carbamic acid, [2-[[[ 1-(4-chlorophenyl)-1H-pyrazol-3-yl]oxy] methyl]phenyl]methoxy-, methyl ester) and its desmethoxy metabolite (methyl-N-[[[1-(4-chlorophenyl)-1H-pyrazol-3-yl]oxy]methyl] phenylcarbamate), calculated as the stoichiometric equivalent of pyraclostrobin, in or on the raw agricultural commodity Pomegranate at 0.3 ppm. In plants the method of analysis is aqueous organic solvent extraction, column clean up and quantitation by LC/MS/MS. Contact: RD.

3. PP 0E8827. (EPA-HQ-OPP-2020-0245). Interregional Research Project Number 4 (IR-4), Rutgers, The State University of New Jersey, 500 College Road East, Suite 201 W, Princeton, NJ 08540 requesting, pursuant to section 408(d) of the Federal Food, Drug, and Cosmetic Act (FFDCA), 21 U.S.C. 346a(d), to amend 40 CFR part 180 by establishing tolerances for residues of fluazinam, (3-chloro-N-3-chloro-2,6-dinitro-4-(trifluoromethyl)phenyl-5-(trifluoromethyl)-2-pyridinamine) including its metabolites and degradates, in or on the raw agricultural commodities.

Individual commodities of Proposed Crop Subgroup 6-18A: Edible podded bean legume vegetable subgroup including: French bean, edible podded at 0.1 ppm; garden bean, edible podded at 0.1 ppm; green bean, edible podded at 0.1 ppm; scarlet runner bean, edible podded at 0.1 ppm; snap bean, edible podded at 0.1 ppm; kidney bean, edible podded at 0.1 ppm; navy bean, edible podded at 0.1 ppm; wax bean, edible podded at 0.1 ppm; asparagus bean, edible podded at 0.1 ppm; catjang bean, edible podded at 0.1 ppm; Chinese longbean, edible podded at 0.1 ppm; cowpea, edible podded at 0.1 ppm; moth bean, edible podded at 0.1 ppm; mung bean, edible podded at 0.1 ppm; rice bean, edible podded at 0.1 ppm; urd bean, edible podded at 0.1 ppm; yardlong bean, edible podded at 0.1 ppm; goa bean, edible podded at 0.1 ppm; guar bean, edible podded at 0.1 ppm; jackbean, edible podded at 0.1 ppm; lablab bean, edible podded at 0.1 ppm; vegetable soybean, edible podded at 0.1 ppm; sword bean, edible podded at 0.1 ppm; winged pea, edible podded at 0.1 ppm; velvet bean, edible podded at 0.1 ppm.

Individual commodities of Proposed Crop Subgroup 6-19B: Edible podded pea legume vegetable subgroup including: Dwarf pea, edible podded at 0.15 ppm; edible podded pea at 0.15 ppm; green pea, edible podded at 0.15 ppm; snap pea, edible podded at 0.15 ppm; snow pea, edible podded at 0.15 ppm; sugar snap pea, edible podded at 0.15 ppm; grass-pea, edible podded at 0.15 ppm; lentil, edible podded at 0.15 ppm; pigeon pea, edible podded at 0.15 ppm; chickpea, edible podded at 0.15 ppm.

Individual commodities of Proposed Crop Subgroup 6-19C: Succulent shelled bean subgroup including: Lima bean, succulent shelled at 0.04 ppm; scarlet runner bean, succulent shelled at 0.04 ppm; wax bean, succulent shelled at 0.04 ppm; blackeyed pea, succulent shelled at 0.04 ppm; moth bean, succulent shelled at 0.04 ppm; catjang bean, succulent shelled at 0.04 ppm; cowpea, succulent shelled at 0.04 ppm; crowder pea, succulent shelled 0.04 ppm; southern pea, succulent shelled at 0.04 ppm; Andean lupin, succulent shelled at 0.04 ppm; blue lupin, succulent shelled at 0.04 ppm; grain lupin, succulent shelled at 0.04 ppm; sweet lupin, succulent shelled at 0.04 ppm; white lupin, succulent shelled at 0.04 ppm; white sweet lupin, succulent shelled at 0.04 ppm; yellow lupin, succulent shelled at 0.04 ppm; broad bean, succulent shelled at 0.04 ppm; jackbean, succulent shelled at 0.04 ppm; goa bean, succulent shelled at 0.04 ppm; lablab bean, succulent shelled at 0.04 ppm; vegetable soybean, succulent shelled at 0.04 ppm; velvet bean, succulent shelled at 0.04 ppm.

Individual commodities of Proposed Crop Subgroup 6-19D: Succulent shelled pea subgroup including: Chickpea, succulent shelled at 0.03 ppm; English pea, succulent shelled at 0.03 ppm; garden pea, succulent shelled at 0.03 ppm; green pea, succulent shelled at 0.03 ppm; pigeon pea, succulent shelled at 0.03 ppm; lentil, succulent shelled at 0.03 ppm.

Individual commodities of Proposed Crop Subgroup 6-19E: Dried shelled bean, except soybean, subgroup including: African yam-bean, dry seed at 0.02 ppm; American potato bean, dry seed at 0.02 ppm; Andean lupin bean, dry seed at 0.02 ppm; blue lupin bean, dry seed at 0.02 ppm; grain lupin bean, dry seed at 0.02 ppm; sweet lupin bean, dry seed at 0.02 ppm; white lupin bean, dry seed at 0.02 ppm; white sweet lupin bean, dry seed at 0.02 ppm; yellow lupin bean, dry seed at 0.02 ppm; black bean, dry seed at 0.02 ppm; cranberry bean, dry seed at 0.02 ppm; dry bean, dry seed at 0.02 ppm; field bean, dry seed at 0.02 ppm; French bean, dry seed at 0.02 ppm; garden bean, dry seed at 0.02 ppm; great northern bean, dry seed at 0.02 ppm; green bean, dry seed at 0.02 ppm; kidney bean, dry seed at 0.02 ppm; Lima bean, dry seed at 0.02 ppm; navy bean, dry seed at 0.02 ppm; pink bean, dry seed at 0.02 ppm; pinto bean, dry seed at 0.02 ppm; red bean, dry seed at 0.02 ppm; scarlet runner bean, dry seed at 0.02 ppm; tepary bean, dry seed at 0.02 ppm; yellow bean, dry seed at 0.02 ppm; adzuki bean, dry seed at 0.02 ppm; blackeyed pea, dry seed at 0.02 ppm; asparagus bean, dry seed at 0.02 ppm; catjang bean, dry seed at 0.02 ppm; Chinese longbean, dry seed at 0.02 ppm; cowpea, dry seed at 0.02 ppm; crowder pea, dry seed at 0.02 ppm; mung bean, dry seed at 0.02 ppm; moth bean, dry seed at 0.02 ppm; rice bean, dry seed at 0.02 ppm; southern pea, dry seed at 0.02 ppm; urd bean, dry seed at 0.02 ppm; yardlong bean, dry seed at 0.02 ppm; broad bean, dry seed at 0.02 ppm; guar bean, dry seed at 0.02 ppm; goa bean, dry seed at 0.02 ppm; horse gram, dry seed at 0.02 ppm; jackbean, dry seed at 0.02 ppm; lablab bean, dry seed at 0.02 ppm; morama bean, dry seed at 0.02 ppm; sword bean, dry seed at 0.02 ppm; winged pea, dry seed at 0.02 ppm; velvet bean, dry seed at 0.02 ppm; vegetable soybean, dry seed at 0.02 ppm.

Individual commodities of Proposed Crop Subgroup 6-19F: Dried shelled pea subgroup including: Field pea, dry seed at 0.04 ppm; dry pea, dry seed at 0.04 ppm; green pea, dry seed at 0.04 ppm; garden pea, dry seed at 0.04 ppm; chickpea, dry seed at 0.04 ppm; lentil, dry seed at 0.04 ppm; grass-pea, dry seed at 0.04 ppm; pigeon pea, dry seed at 0.04 ppm; pea, field, hay at 40 ppm; pea, field, vines at 6 ppm; tomato subgroup 8-10A at 1.5 ppm; papaya at 3 ppm; vegetable, brassica, head and stem, group 5-16, except cabbage at 0.01 ppm; brassica, leafy greens, subgroup 4-16B at 0.01 ppm; kohlrabi at 0.01 ppm. An analytical method using LC-MS/MS for the determination of fluazinam and AMGT residues on peas, tomatoes and papaya was developed. Contact: RD.

4. PP 0E8833. (EPA-HQ-OPP-2020-0336). Interregional Research Project Number 4 (IR-4), Rutgers, The State University of New Jersey, 500 College Road East, Suite 201 W, Princeton, NJ 08540 requesting, pursuant to section 408(d) of the Federal Food, Drug, and Cosmetic Act (FFDCA), 21 U.S.C. 346a(d), to amend 40 CFR part 180 by establishing the following: Tolerances with general registrations for residues of the insecticide, methoxyfenozide, including its metabolites and degradates. Compliance with the tolerance levels is to be determined by measuring only methoxyfenozide (3-methoxy-2-methylbenzoic acid 2-(3,5-dimethylbenzoyl)-2-(1,1-dimethylethyl) hydrazide) in or on the commodities: Vegetable, leafy, group 4-16 at 30 ppm; vegetable, brassica, head and stem, group 5-16 at 7 ppm; celtuce at 25 ppm; fennel, Florence, fresh leaves and stalk at 25 ppm; kohlrabi at 7 ppm; leaf petiole vegetable subgroup 22B at 25 ppm; tropical and subtropical, palm fruit, edible peel, subgroup 23C at 8 ppm; tropical and subtropical, small fruit, inedible peel, subgroup 24A at 2 ppm; cottonseed subgroup 20C at 7 ppm; French bean, edible podded at 2 ppm; garden bean, edible podded at 2 ppm; green bean, edible podded at 2 ppm; scarlet runner bean, edible podded at 2 ppm; snap bean, edible podded at 2 ppm; kidney bean, edible podded at 2 ppm; navy bean, edible podded at 2 ppm; wax bean, edible podded at 2 ppm; asparagus bean, edible podded at 2 ppm; catjang bean, edible podded at 2 ppm; chinese longbean, edible podded at 2 ppm; cowpea, edible podded at 2 ppm; moth bean, edible podded at 2 ppm; mung bean, edible podded at 2 ppm; rice bean, edible podded at 2 ppm; urd bean, edible podded at 2 ppm; yardlong bean, edible podded at 2 ppm; goa bean, edible podded at 2 ppm; guar bean, edible podded at 2 ppm; jackbean, edible podded at 2 ppm; lablab bean, edible podded at 2 ppm; vegetable soybean, edible podded at 2 ppm; sword bean, edible podded at 2 ppm; winged pea, edible podded at 2 ppm; velvet bean, edible podded at 2 ppm; dwarf pea, edible podded at 2 ppm; edible podded pea, edible podded at 2 ppm; green pea, edible podded at 2 ppm; snap pea, edible podded at 2 ppm; snow pea, edible podded at 2 ppm; sugar snap pea, edible podded at 2 ppm; grass-pea, edible podded at 2 ppm; lentil, edible podded at 2 ppm; pigeon pea, edible podded at 2 ppm; chickpea, edible podded at 2 ppm; Lima bean, succulent shelled at 0.3 ppm; scarlet runner bean, succulent shelled at 0.3 ppm; wax bean, succulent shelled at 0.3 ppm; blackeyed pea, succulent shelled at 0.3 ppm; moth bean, succulent shelled at 0.3 ppm; catjang bean, succulent shelled at 0.3 ppm; cowpea, succulent shelled at 0.3 ppm; crowder pea, succulent shelled at 0.3 ppm; southern pea, succulent shelled at 0.3 ppm; Andean lupin, succulent shelled at 0.3 ppm; blue lupin, succulent shelled at 0.3 ppm; grain lupin, succulent shelled at 0.3 ppm; sweet lupin, succulent shelled at 0.3 ppm; white lupin, succulent shelled at 0.3 ppm; white sweet lupin, succulent shelled at 0.3 ppm; yellow lupin, succulent shelled at 0.3 ppm; broad bean, succulent shelled at 0.3 ppm; jackbean, succulent shelled at 0.3 ppm; goa bean, succulent shelled at 0.3 ppm; lablab bean, succulent shelled at 0.3 ppm; vegetable soybean, succulent shelled at 0.3 ppm; velvet bean, succulent shelled at 0.3 ppm; chickpea, succulent shelled at 0.3 ppm; English pea, succulent shelled at 0.3 ppm; garden pea, succulent shelled at 0.3 ppm; Green pea, succulent shelled at 0.3 ppm; Pigeon pea, succulent shelled at 0.3 ppm; lentil, succulent shelled at 0.3 ppm; African yam-bean, dry seed at 0.5 ppm; American potato bean, dry seed at 0.5 ppm; Andean lupin bean, dry seed at 0.5 ppm; blue lupin bean, dry seed at 0.5 ppm; grain lupin bean, dry seed at 0.5 ppm; sweet lupin bean, dry seed at 0.5 ppm; white lupin bean, dry seed at 0.5 ppm; white sweet lupin bean, dry seed at 0.5 ppm; yellow lupin bean, dry seed at 0.5 ppm; black bean, dry seed at 0.5 ppm; cranberry bean, dry seed at 0.5 ppm; dry bean, dry seed at 0.5 ppm; field bean, dry seed at 0.5 ppm; French bean, dry seed at 0.5 ppm; garden bean, dry seed at 0.5 ppm; great northern bean, dry seed at 0.5 ppm; green bean, dry seed at 0.5 ppm; kidney bean, dry seed at 0.5 ppm; Lima bean, dry seed at 0.5 ppm; navy bean, dry seed at 0.5 ppm; pink bean, dry seed at 0.5 ppm; pinto bean, dry seed at 0.5 ppm; red bean, dry seed at 0.5 ppm; scarlet runner bean, dry seed at 0.5 ppm; tepary bean, dry seed at 0.5 ppm; yellow bean, dry seed at 0.5 ppm; adzuki bean, dry seed at 0.5 ppm; asparagus bean, dry seed at 0.5 ppm; catjang bean, dry seed at 0.5 ppm; Chinese longbean, dry seed at 0.5 ppm; cowpea, dry seed at 0.5 ppm; crowder pea, dry seed at 0.5 ppm; mung bean, dry seed at 0.5 ppm; moth bean, dry seed at 0.5 ppm; rice bean, dry seed at 0.5 ppm; urd bean, dry seed at 0.5 ppm; yardlong bean, dry seed at 0.5 ppm; broad bean, dry seed at 0.5 ppm; guar bean, dry seed at 0.5 ppm; goa bean, dry seed at 0.5 ppm; horse gram, dry seed at 0.5 ppm; jackbean, dry seed at 0.5 ppm; lablab bean, dry seed at 0.5 ppm; morama bean, dry seed at 0.5 ppm; sword bean, dry seed at 0.5 ppm; winged pea, dry seed at 0.5 ppm; velvet bean, seed, dry seed at 0.5 ppm; vegetable soybean, dry seed at 0.5 ppm; field pea, dry seed at 0.5 ppm; dry pea, dry seed at 0.5 ppm; green pea, dry seed at 0.5 ppm; garden pea, dry seed at 0.5 ppm; chickpea, dry seed at 0.5 ppm; lentil, dry seed at 0.5 ppm; grass-pea, dry seed at 0.5 ppm; pigeon pea, dry seed at 0.5 ppm. Also, tolerances with regional registrations are requested for residues of the insecticide, methoxyfenozide, including its metabolites and degradates. Compliance with the tolerance levels is to be determined by measuring only methoxyfenozide (3-methoxy-2-methylbenzoic acid 2-(3,5-dimethylbenzoyl)-2-(1,1-dimethylethyl) hydrazide) in or on the commodities: Rice, grain at 30 ppm; rice, hulls at 55 ppm; rice, straw at 30 ppm. Adequate methods are available for tolerance enforcement in primary crops and animal commodities. Contact: RD.

5. PP 0E8848. (EPA-HQ-OPP-2019-0233). Interregional Research Project No. 4 (IR-4), IR-4 Project Headquarters, Rutgers, The State University of NJ, 500 College Road East, Suite 201 W, Princeton, NJ 08540, requests to amend 40 CFR part 180 by establishing tolerances for residues of 2,4-D in or on the raw agricultural commodity Sesame, seed at 0.05 ppm. An adequate GC/ECD enforcement method for plants (designated as EN-CAS Method No. ENC-2/93) which has been independently validated. Adequate radiovalidation data have been submitted and evaluated for the enforcement method using samples from the wheat metabolism study. Contact: RD.

6. PP 9E8745. (EPA-HQ-OPP-2019-0233). Interregional Research Project No. 4 (IR-4), IR-4 Project Headquarters, Rutgers, The State University of NJ, 500 College Road East, Suite 201 W, Princeton, NJ 08540, requests to amend 40 CFR part 180 by establishing tolerances for residues of 2,4-D in or on the raw agricultural commodities: Wheatgrass, intermediate, bran at 4 ppm; wheatgrass, intermediate, grain at 2 ppm; wheatgrass, intermediate, straw at 50 ppm; and wheatgrass, intermediate, forage at 25 ppm. An adequate GC/ECD enforcement method for plants (designated as EN-CAS Method No. ENC-2/93) which has been independently validated. Adequate radiovalidation data have been submitted and evaluated for the enforcement method using samples from the wheat metabolism study. Contact: RD.

7. PP 9E8819. (EPA-HQ-OPP-2020-0050). BASF Corporation, 26 Davis Drive, P.O. Box 13528, Research Triangle Park, NC 27709 requests to establish a tolerance in 40 CFR part 180.589 for residues of the fungicide boscalid in or on tea at 80 ppm. The gas chromatography using mass spectrometry (GC/MS) or liquid chromatography in tandem mass spectrometry detection (LC/MS/MS) method are used to measure and evaluate the chemical boscalid. Contact: RD.

Authority: 21 U.S.C. 346a.

Dated: September 10, 2020.
Delores Barber,
Director, Information Technology and Resources Management Division, Office of Pesticide Programs.

[FR Doc. 2020-21184 Filed 9-29-20; 8:45 am]

BILLING CODE 6560-50-P